DEPARTMENT OF COMMERCE

National Oceanic and Atmospheric Administration

National Climate Assessment and Development Advisory Committee

AGENCY: Office of Oceanic and Atmospheric Research (OAR), National Oceanic and Atmospheric Administration (NOAA), Department of Commerce.

ACTION: Notice of Charter Renewal.

SUMMARY: The Department of Commerce's Chief Financial Officer and Assistant Secretary for Administration has renewed the charter for the National Climate Assessment and Development Advisory Committee (NCADAC) for a period of time that is either 90 days after the government's Third National Climate Assessment is released to the public or two years from the date of the filing of the charter with the appropriate U.S. Senate and House of Representatives oversight committees, which ever date is earlier. The NCADAC is a federal advisory committee under the Federal Advisory Committee Act (Pub. L. 92-463).

DATES: The NCADAC Charter is renewed for a period of time that is either 90 days after the government's Third National Climate Assessment is released to the public or two years from the date of the filing of the charter with the appropriate U.S. Senate and House of Representatives oversight committees, which ever date is earlier.

FOR FURTHER INFORMATION CONTACT: Dr. Cynthia J. Decker, Designated Federal Officer, National Climate Assessment and Development Advisory Committee, NOAA, Rm. 11230, R/SAB, 1315 East-West Highway, Silver Spring, Maryland 20910. (Phone: 301-734-1156, Email: Cynthia.decker@noaa.gov); or visit the NOAA NCADAC Web site at http://www.ncadac.noaa.gov.

SUPPLEMENTARY INFORMATION: The renewal of the charter for this time period is critical to the success of the National Climate Assessment.

No amendments were made to the Charter.

Dated: July 29, 2013.
Jason Donaldson,
Chief Financial Officer/Chief Administrative Officer, Office of Oceanic and Atmospheric Research, National Oceanic and Atmospheric Administration.

[FR Doc. 2013-18652 Filed 8-1-13; 8:45 am]

BILLING CODE 3510-KD-P